COMMITTEE FOR PURCHASE FROM PEOPLE WHO ARE BLIND OR SEVERELY DISABLED

Procurement List; Additions

AGENCY: Committee for Purchase From People Who Are Blind or Severely Disabled.

ACTION: Additions to Procurement List.

SUMMARY: This action adds to the Procurement List a product and services to be furnished by nonprofit agencies employing persons who are blind or have other severe disabilities.

EFFECTIVE DATE: September 19, 2004.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On June 14, June 18, and June 25, 2004, the Committee for Purchase From People Who Are Blind or Severely Disabled published notice (69 FR 32975, 34121, and 35580) of proposed additions to the Procurement List.

After consideration of the material presented to it concerning capability of qualified nonprofit agencies to provide the product and services and impact of the additions on the current or most recent contractors, the Committee has determined that the product and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping, or other compliance requirements for small entities other than the small organizations that will furnish the product and services to the Government.

2. The action will result in authorizing small entities to furnish the product and services to the Government.

3. There are no known regulatory alternatives which would accomplish the objectives of the Javits-Wagner-O'Day Act (41 U.S.C. 46-48c) in connection with the product and services proposed for addition to the Procurement List.

End of Certification

Accordingly, the following product and services are added to the Procurement List:

Product

Product/NSN: Side Rack, Vehicle Body, 2510-00-590-9734.

NPA: Tuscola County Community Mental Health Services, Caro, Michigan.

Contract Activity: U.S. Army Tank Acquisition Center, Warren, Michigan.

Services

Service Type/Location: Custodial Services, Grissom Air Reserve Base, 448 Mustang Avenue, Grissom ARB, Indiana.

NPA: Wabash Center, Inc., Lafayette, Indiana.

Contract Activity: Air Force Reserve Command, Grissom ARB, Indiana.

Service Type/Location: Food Service Attendant, Minnesota Air National Guard, St. Paul, Minnesota.

NPA: AccessAbility, Inc., Minneapolis, Minnesota.

Contract Activity: Air National Guard-St. Paul, MN, St. Paul, Minnesota.

This action does not affect current contracts awarded prior to the effective date of this addition or options that may be exercised under those contracts.

Sheryl D. Kennerly,
Director, Information Management.

[FR Doc. 04-19154 Filed 8-19-04; 8:45 am]

BILLING CODE 6353-01-P